DEPARTMENT OF COMMERCE

National Oceanic and Atmospheric Administration

RIN 0648-XS46

Pacific Coast Groundfish Fishery; Intent To Prepare an Environmental Impact Statement for the 2011-2012 Biennial Harvest Specifications and Management Measures

AGENCY: National Marine Fisheries Service (NMFS), National Oceanic and Atmospheric Administration (NOAA), Commerce.

ACTION: Notice of intent to prepare an environmental impact statement (EIS); request for written comments; notice of public scoping meetings.

SUMMARY: NMFS and the Pacific Fishery Management Council (Council) announce their intent to prepare an EIS in accordance with the National Environmental Policy Act (NEPA) to analyze the impacts on the human, biological, and physical environment of setting harvest specifications and management measures for 2011 and 2012, pursuant to the Pacific Coast Groundfish Fishery Management Plan.

DATES: Public scoping will be conducted through regular meetings of the Pacific Fishery Management Council and its advisory bodies starting with the October 31-November 5, 2009, Council meeting and continuing through the June 12-17, 2010, meeting. Written comments will be accepted through December 3, 2009 (see SUPPLEMENTARY INFORMATION). Written, faxed or e-mailed comments must be received by 5 p.m. Pacific Daylight time on December 3, 2009.

ADDRESSES: You may submit comments, on issues and alternatives, identified by 0648-XS46 by any of the following methods:

• E-mail: GroundfishSpex2011_12.nwr@noaa.gov. Include 0648-XS46 and enter AScoping Comments@ in the subject line of the message.

• Fax: 503-820-2299, attention: John DeVore.

• Mail: Donald McIsaac, Pacific Fishery Management Council, 7700 NE Ambassador Pl., Suite 101, Portland, OR 97220, attention: John DeVore.

FOR FURTHER INFORMATION CONTACT: Mr. John DeVore, Pacific Fishery Management Council, phone: 503-820-2280, fax: 503-820-2299 and e-mail: john.devore@noaa.gov.

SUPPLEMENTARY INFORMATION:

Electronic Access

This Federal Register document is available on the Government Printing Office's Web site at: http://www.gpoaccess.gov/fr/index/html.

Background and Need for Agency Action

There are more than 90 species managed under the Pacific Coast Groundfish Fishery Management Plan (groundfish FMP), seven of which have been declared overfished. The groundfish stocks support an array of commercial, recreational, and Indian tribal fishing interests in state and Federal waters off the coasts of Washington, Oregon, and California. In addition, groundfish are also harvested incidentally in non-groundfish fisheries, most notably, the non-groundfish trawl fisheries for pink shrimp, ridgeback prawns, California halibut, and sea cucumber.

The proposed action is needed to manage Pacific Coast groundfish fisheries consistent with requirements of the Magnuson-Stevens Fishery Conservation and Management Act (MSA) including preventing overfishing and ensuring that groundfish stocks are maintained at, or restored to, sizes and structures that will produce the highest net benefit to the nation, while balancing environmental and social values.

The Proposed Action

Using the “best available science,” the proposed action is to establish harvest specifications consistent with an “annual catch limits framework” for calendar years 2011 and 2012 for species and species' complexes managed under the groundfish FMP and to establish management measures that constrain total fishing mortality to these specified Annual Catch Limits (ACLs). The specifications must be consistent with requirements of the MSA including preventing overfishing and, for stocks that have been declared overfished, setting ACLs appropriately to return stock biomass to the maximum sustainable yield (MSY) level or MSY proxy level. Because seven Pacific Coast groundfish species are currently overfished and managed under rebuilding plans, ACLs must be set consistent with the rebuilding plans and the framework described in MSA section 304(e) and the groundfish FMP, which requires overfished stocks to be rebuilt to the MSY biomass in a time period that is as short as possible, taking into account the status and biology of the overfished stocks, the needs of fishing communities, and the interaction of the overfished stock within the marine ecosystem. To address this mandate, changes to rebuilding plans may be made as part of this biennial process. In addition, based on the 2009 stock assessment, the Secretary of Commerce may declare that petrale sole (Eopsetta jordani) is overfished, in which case the Council would develop a rebuilding plan for this stock and amend the groundfish FMP accordingly. Petrale sole ACLs for 2011 and 2012 would be set consistent with any adopted rebuilding plan. The scope of the proposed action may also include adopting the rebuilding plan and amending the groundfish FMP.

Annual catch limits (ACLs), or harvest specifications, must be consistent with National Standard 1 of the Magnuson-Stevens Fishery Conservation and Management Act and pursuant to revised guidelines, which were published by NMFS on January 16, 2009 (74 FR 3178). The Council is concurrently developing an amendment to the groundfish FMP (Amendment 23) to make the necessary revisions so that the groundfish FMP's harvest management framework is consistent with these revised guidelines. The 2011-2012 annual catch limits would be consistent with the revised harvest management framework.

The Council adopted fixed allocations of catch opportunity between the limited entry groundfish fishery and all other groundfish fishery sectors for 25 groundfish stocks in Amendment 21 to the groundfish FMP, which is pending submission for review by the Secretary of Commerce. There are also existing fixed allocations for sablefish (Anaplopoma fimbria) north of 36° N. latitude and Pacific whiting (Merluccius productus). Additional allocations may be determined as part of the proposed action in support of new management tools for the limited entry trawl sector (see below).

The proposed action also establishes management measures designed to maintain total catch at or below ACLs. Management measures may be established for each year of the 2-year period or shorter periods, and the types of measures usually differ among groundfish fishery sectors. In 2009 the Council adopted Amendment 20 to the groundfish FMP, which would change the types of management measures used for the groundfish limited entry trawl sector. A single shorebased trawl sector would be managed with individual fishing quotas (IFQ) while two at-sea Pacific whiting sectors (catcher vessels delivering to mothership processors and catcher-processors) would be managed under cooperatives. Amendment 20 to the groundfish FMP is pending submission to the agency for review. If approved, NMFS intends that the amendment and pursuant regulations would be implemented in time for use beginning in 2011. However, under the proposed action current catch control tools (2-month cumulative trip limits, seasons, and quotas) will be evaluated for the limited entry trawl sector as an alternative in the event Amendment 20 is not approved and implemented by 2011.

These harvest specifications include fish caught in state ocean waters (zero to three nautical miles [nm] offshore) as well as fish caught in the U.S. exclusive economic zone (3 to 200 nm offshore). Regulations implementing management measures consistent with the harvest specifications would need to be in place by January 1, 2011, as the next 2-year period begins on January 1, 2011. In the unlikely event that new harvest specifications and management measures are not approved by the end of 2010 and effective on January 1, 2011, the harvest specifications and management measures in place for 2010 would remain in place until the effective date of the new harvest specifications and management measures. The EIS analysis described in this document would consider a similar scenario in the unlikely event that the effective date of the harvest specifications and management measures for 2011-2012 are delayed beyond January 1, 2013.

Alternatives

NEPA requires that agencies evaluate reasonable alternatives to the proposed action in an EIS, which address the purpose and need for agency action. A preliminary set of alternatives will be developed during the October 31-November 5, 2009, Council meeting. Alternatives are structured around a range of ABCs/ACLs for fishery management units (stocks or stock complexes). This range of ABCs/ACLs will be consistent with the annual catch limit specification framework adopted under Amendment 23, discussed above.

Based on the range of ABCs/ACLs alternatives adopted at the November 2009, Council meeting, the Council is scheduled to choose a preliminary preferred ABCs/ACLs alternative at their April 10-15, 2010, meeting; a range of alternative management measures would also be identified at that time, which would maintain total harvest mortality (across all fisheries intercepting groundfish) to within the preferred ACLs. The Council is then scheduled to take final action to choose a preferred alternative that includes ABCs/ACLs and associated management measures at their June 12-17, 2010, meeting.

Restrictive management measures intended to rebuild overfished species have been adopted and implemented over the past several years for most commercial and recreational fishing sectors. Management measures intended to control the rate at which different groundfish species or species groups are taken in the fisheries include trip limits, bag limits, size limits, time/area closures, and gear restrictions. Large area closures, called Groundfish Conservation Areas (GCAs) or Rockfish Conservation Areas (RCAs), intended to reduce bycatch of overfished species, were first implemented in late 2002. A second important type of measure used to manage groundfish is the cumulative landing limit. Cumulative landing limits restrict the total weight of fish by species or species group that any one vessel may land during the limit period, which is normally 2 months. Different cumulative landing limits are established for areas north and south of 40*10′ N. latitude (near Cape Mendocino, California) and for limited entry trawl, limited entry fixed gear, and open access fishery participants. As discussed above, under Amendment 20 Individual Fishing Quotas would replace cumulative trip limits as the primary catch control tool to manage a single sector that includes both limited entry trawl vessels targeting Pacific whiting and vessels targeting other groundfish species and delivered to shoreside processors. Under the amendment catcher vessels targeting Pacific whiting and delivering at-sea to mothership processors would be managed under a system of cooperatives where NMFS will establish new permits and endorsements, review and approve co-op agreements, and allocate a percent of this sector's harvest allocation to each co-op. The Pacific whiting catcher-processor sector currently operates as a voluntary co-op; Amendment 20 would create a permit endorsement to limit participation in this sector. These new catch control measures will be evaluated as part of the proposed action along with current measures. Final determination of which types of measures will apply in 2011 and 2012 will depend on whether Amendment 20 is approved and implemented by January 1, 2011.

Preliminary Identification of Environmental Issues

A principal objective of the scoping and public input process is to identify potentially significant impacts to the human environment that should be analyzed in depth in the EIS.

Public scoping will occur throughout the Council's decision-making process. All decisions during the Council process benefit from written and oral public comments delivered prior to or during the Council meeting. These public comments are considered integral to scoping for developing this EIS. A preliminary range of 2011 and 2012 annual catch limits and management measures will be decided at the October 31-November 5, 2009, Council meeting in Costa Mesa, California, at the Hilton Orange County/Costa Mesa, 3050 Bristol St., Costa Mesa, CA 92626(714-540-7000). The Council is expected to adopt preliminary preferred ABCs/ACLs alternatives and refine the range of management measures at their April 10-15, 2010, meeting in Portland, Oregon, at the Sheraton Portland Airport Hotel, 8235 NE Airport Way Portland, OR 97220 (503-281-2500). The Council is expected to decide final 2011 and 2012 annual catch limits, further refine the range of management measures, and decide their final preferred alternative at their June 12-17, 2010, meeting at the Crowne Plaza Mid Peninsula, 1221 Chess Drive, Foster City, CA 94404 (800-227-6963 or 650-570-5700). Public comment may be made under the agenda items when the Council will consider these proposed actions. The agendas for these meetings will be available from the Council Web site or by request from the Council office in advance of the meeting (see ADDRESSES). Written comments on the scope of issues and alternatives may also be submitted as described under ADDRESSES.

Authority: 16 U.S.C. 1801 et seq.

Dated: October 27, 2009.
Alan D. Risenhoover,
Director, Office of Sustainable Fisheries, National Marine Fisheries Service.

[FR Doc. E9-26223 Filed 11-2-09; 8:45 am]

BILLING CODE 3510-22-P